NEIGHBORHOOD REINVESTMENT CORPORATION

Regular Board of Directors Meeting; Sunshine Act

TIME and DATE: 10:00 a.m., Tuesday, April 12, 2016.

PLACE: NeighborWorks America—Gramlich Boardroom, 999 North Capitol Street NE., Washington DC 20002.

STATUS: Open (with the exception of Executive Session).

CONTACT PERSON: Jeffrey Bryson, EVP & General Counsel/Secretary, (202) 760-4101; jbryson@nw.org.

AGENDA:

I. CALL TO ORDER

II. Approval of Minutes

III. Executive Session: Audit Committee Report

IV. Executive Session: Report from CEO

V. Executive Session: Officer Performance Reviews

VI. Business Intelligence

VII. CypherWorx

VIII. Northern Trust

IX. Audit Update

X. Strategic Plan Perspectives

XI. Management Program Background & Updates

XII. Adjournment

The General Counsel of the Corporation has certified that in his opinion, one or more of the exemptions set forth in 5 U.S.C. 552b(c)(2), (4) and (6) permit closure of the following portions of this meeting:

• Audit Committee Report

• Report from CEO

• Officer Performance Reviews

Jeffrey T. Bryson,
EVP & General Counsel/Corporate Secretary.

[FR Doc. 2016-07785 Filed 3-31-16; 4:15 pm]

BILLING CODE 7570-02-P